DEPARTMENT OF THE INTERIOR

National Park Service

[NPS-WASO-NRNHL-DTS#-29380PPWOCRADI0, PCU00RP14.R50000]

National Register of Historic Places; Notification of Pending Nominations and Related Actions

AGENCY: National Park Service, Interior.

ACTION: Notice.

SUMMARY: The National Park Service is soliciting comments on the significance of properties nominated before November 23, 2019, for listing or related actions in the National Register of Historic Places.

DATES: Comments should be submitted by December 27, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before November 23, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CALIFORNIA

Los Angeles County

Kelton Apartments, 644-648 Kelton Ave., Los Angeles, SG100004856

Church of the Epiphany, (Latinos in 20th Century California MPS), 2808 Altura St., Los Angeles, MP100004857

IDAHO

Bonner County

Co-op Gas & Supply Company, 524 West Church St., Sandpoint, SG100004821

ILLINOIS

Cook County

Gage Park Bungalow Historic District, (Chicago Bungalows MPS), Roughly bounded by West 55th St., South Washtenaw Ave., West 59th St. & South Sacramento Ave., Chicago, MP100004852

McHenry County

Colby-Petersen Farm, 4112 McCullom Lake Rd., McHenry, SG100004853

Rock Island County

Arsenal Courts Historic District, 1400 Fifth St., Rock Island, SG100004851

KENTUCKY

Daviess County

Stinnett, James L., House, 10184 Hwy 54, Whitesville, SG100004830

MAINE

Cumberland County

Thomas B. Reed School, 26 Homestead Ave., Portland, SG100004827

Hancock County

Old Red Store, 129 Bernard Rd., Tremont, SG100004825

Oxford County

Otisfield Town Pound, Near 322 Bell Hill Rd., Otisfield, SG100004826

Waldo County

Farwell Brothers Store, 37 Gordon Hill Rd., Thorndike, SG100004828

NEW MEXICO

Santa Fe County

Nordfeldt, B. J. O. and Margaret Doolittle, House, 460 Camino de las Animas, Santa Fe, SG100004822

OHIO

Cuyahoga County

Scofield, Levi, House, 2438 Mapleside Rd., Cleveland, SG100004823

Delaware County

Delaware Post Office, 60 South Sandusky St., Delaware, SG100004824

PUERTO RICO

Cabo Rojo Municipality

James L.M. Curry Graded School, (Early Twentieth Century Schools in Puerto Rico TR), Calle Betances, Cabo Rojo vicinity, MP100004855

Ponce Municipality

Acueducto Alfonso XII, (Going with the Flow: Waterworks in Puerto Rico, 1840-1898), Calle del Acueducto, Ponce vicinity, MP100004854

A request for removal has been made for the following resources:

ILLINOIS

Champaign County

Bailey—Rug Building, 219-225 N. Neil St., Champaign, OT97001337

Coles County

Harrison St. Bridge, (Coles County Highway Bridges Over the Embarras River TR), E of Charleston, Charleston vicinity, OT81000213

Railway Express Agency Building, 1804 Western Ave., Mattoon, OT94000974

Cook County

Hyatt House Hotel, 4500 W. Touhy Ave., Lincolnwood, OT13000553

Oak Lawn School, 9526 S. Cook Ave., Oak Lawn, OT90001725

Crawford County

Robinson High School Auditorium—Gymnasium, 200 Blk of E. Highland Ave., Robinson, OT05000434

DuPage County

DuPage Theatre and DuPage Shoppes, 101-109 S. Main St., Lombard, OT87002047

Fulton County

Carithers Store Building, Table Grove Village Sq., W of US 136, Table Grove, OT87001262

Gallatin County

Peeples, Robert and John McKee, Houses, Main St., Old Shawneetown, OT83000317

Jo Daviess County

Frentess, Henry N., Farmstead, 19140 US 20 W., East Dubuque, OT10001202

Kane County

Teeple Barn, NW of Elgin on Randall Rd., Elgin vicinity, OT79000844

Lake County

Jewel Tea Company, Inc., 511 Lake Zurich Rd., Barrington, OT03001462

Obee House, (Highland Park MRA), 1642 Green Bay Rd., Highland Park, OT82002573

Madison County

Madison County Sheriff's House and Jail, 210 N. Main St., Edwardsville, OT80001394

Marion County

Centralia Elk's Lodge, The, 328 E. Broadway, Centralia, OT08001171

McLean County

Gildersleeve House, 108 Broadway, Hudson, OT77001517

Rock Island County

Lincoln School, 7th Ave. and 22nd St., Rock Island, OT85001910

Stephenson County

Freeport City Hall, 230 W. Stephenson, Freeport, OT16000329

Vermilion County

Building at 210-212 West North Street, 210-212 West North St., Danville, OT00001334

Woodford County

Benson Water Tower, Clayton St. between Front & Pleasant Sts., Benson, OT87002034

Additional documentation has been received for the following resource:

MAINE

Sagadahoc County

Richmond Historic District (Additional Documentation), Roughly bounded by South St., High St., Main St. and the Kennebec River, Richmond, AD73000146

Authority: Section 60.13 of 36 CFR part 60.

Dated: November 25, 2019.
Julie H. Ernstein,
Supervisory Archeologist, National Register of Historic Places/National Historic Landmarks Program.

[FR Doc. 2019-26740 Filed 12-11-19; 8:45 am]

BILLING CODE 4312-52-P